DEPARTMENT OF ENERGY

Federal Energy Regulatory Commission

Combined Notice of Filings

Take notice that the Commission has received the following Natural Gas Pipeline Rate and Refund Report filings:

Filings Instituting Proceedings

Docket Numbers: RP16-828-000.

Applicants: SG Resources Mississippi, L.L.C.

Description: Section 4(d) Rate Filing: SG Resources Mississippi, L.L.C.—Filing of Housekeeping Tariff Changes to be effective 5/7/2016.

Filed Date: 4/7/16.

Accession Number: 20160407-5143.

Comments Due: 5 p.m. ET 4/19/16.

Docket Numbers: RP16-829-000.

Applicants: Tennessee Gas Pipeline Company, L.L.C.

Description: Section 4(d) Rate Filing: Revised Hourly Nomination Deadline to be effective 5/7/2016.

Filed Date: 4/7/16.

Accession Number: 20160407-5169.

Comments Due: 5 p.m. ET 4/19/16.

Docket Numbers: RP16-830-000.

Applicants: Enable Mississippi River Transmission, L.

Description: Section 4(d) Rate Filing: Negotiated Rate Filing to Amend LER 5680's Attachment A_4_7_16 to be effective 4/7/2016.

Filed Date: 4/7/16.

Accession Number: 20160407-5205.

Comments Due: 5 p.m. ET 4/19/16.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP16-567-001.

Applicants: Tennessee Gas Pipeline Company, L.L.C.

Description: Compliance filing NAESB Version 3.0 Compliance to Order No. 587-W—Revised Sheet 313A to be effective 4/1/2016.

Filed Date: 4/7/16.

Accession Number: 20160407-5168.

Comments Due: 5 p.m. ET 4/19/16.

Docket Numbers: RP16-413-001.

Applicants: Granite State Gas Transmission, Inc.

Description: Compliance filing Compliance filing for March 29th Order to be effective 4/1/2016.

Filed Date: 4/8/16.

Accession Number: 20160408-5137.

Comments Due: 5 p.m. ET 4/20/16.

Docket Numbers: RP16-439-001.

Applicants: Southern Star Central Gas Pipeline, Inc.

Description: Compliance filing NAESB 3.0 Compliance Filing to be effective 4/1/2016.

Filed Date: 4/8/16.

Accession Number: 20160408-5091.

Comments Due: 5 p.m. ET 4/20/16.

Docket Numbers: RP16-489-001.

Applicants: East Tennessee Natural Gas, LLC.

Description: Compliance filing ETNG RP16-489-000 Compliance Filing to be effective 4/1/2016.

Filed Date: 4/8/16.

Accession Number: 20160408-5110.

Comments Due: 5 p.m. ET 4/20/16.

Docket Numbers: RP16-490-001.

Applicants: Egan Hub Storage, LLC.

Description: Compliance filing Egan RP16-490-000 Compliance Filing to be effective 4/1/2016.

Filed Date: 4/8/16.

Accession Number: 20160408-5119.

Comments Due: 5 p.m. ET 4/20/16.

Docket Numbers: RP16-491-001.

Applicants: Ozark Gas Transmission, L.L.C.

Description: Compliance filing OGT RP16-491-000 Compliance Filing to be effective 4/1/2016.

Filed Date: 4/8/16.

Accession Number: 20160408-5121.

Comments Due: 5 p.m. ET 4/20/16.

Docket Numbers: RP16-493-001.

Applicants: Saltville Gas Storage Company L.L.C.

Description: Compliance filing SGSC RP16-493-000 Compliance Filing to be effective 4/1/2016.

Filed Date: 4/8/16.

Accession Number: 20160408-5122.

Comments Due: 5 p.m. ET 4/20/16.

Docket Numbers: RP16-505-002.

Applicants: Portland General Electric Company.

Description: Compliance filing NAESB V3 Standards Compliance Final Filing to be effective 4/1/2016.

Filed Date: 4/8/16.

Accession Number: 20160408-5157.

Comments Due: 5 p.m. ET 4/20/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 11, 2016.
Nathaniel J. Davis, Sr.,
Deputy Secretary.

[FR Doc. 2016-08924 Filed 4-18-16; 8:45 am]

BILLING CODE 6717-01-P